DEPARTMENT OF TRANSPORTATION

Federal Aviation Administration

14 CFR Part 71

[Docket No. FAA-2018-0770; Amendment No. 71-50]

RIN 2120-AA66

Airspace Designations; Incorporation by Reference

AGENCY: Federal Aviation Administration (FAA), DOT.

ACTION: Final rule.

SUMMARY: This action amends Title 14 Code of Federal Regulations (14 CFR) part 71 relating to airspace designations to reflect the approval by the Director of the Federal Register of the incorporation by reference of FAA Order 7400.11C, Airspace Designations and Reporting Points. This action also explains the procedures the FAA will use to amend the listings of Class A, B, C, D, and E airspace areas; air traffic service routes; and reporting points incorporated by reference.

DATES: These regulations are effective September 15, 2018, through September 15, 2019. The incorporation by reference of FAA Order 7400.11C is approved by the Director of the Federal Register as of September 15, 2018, through September 15, 2019.

ADDRESSES: FAA Order 7400.11C, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Sarah A. Combs, Airspace Policy Group, Office of Airspace Services, Federal Aviation Administration, 800 Independence Avenue SW, Washington, DC 20591; telephone: (202) 267-8783.

SUPPLEMENTARY INFORMATION:

History

FAA Order 7400.11B, Airspace Designations and Reporting Points, effective September 15, 2017, listed Class A, B, C, D and E airspace areas; air traffic service routes; and reporting points. Due to the length of these descriptions, the FAA requested approval from the Office of the Federal Register to incorporate the material by reference in the Federal Aviation Regulations section 71.1, effective September 15, 2017, through September 15, 2018. During the incorporation by reference period, the FAA processed all proposed changes of the airspace listings in FAA Order 7400.11B in full text as proposed rule documents in the Federal Register. Likewise, all amendments of these listings were published in full text as final rules in the Federal Register. This rule reflects the periodic integration of these final rule amendments into a revised edition of Order 7400.11C, Airspace Designations and Reporting Points. The Director of the Federal Register has approved the incorporation by reference of FAA Order 7400.11C in section 71.1, as of September 15, 2018, through September 15, 2019. This rule also explains the procedures the FAA will use to amend the airspace designations incorporated by reference in part 71. Sections 71.5, 71.15, 71.31, 71.33, 71.41, 71.51, 71.61, 71.71, and 71.901 are also updated to reflect the incorporation by reference of FAA Order 7400.11C.

Availability and Summary of Documents for Incorporation by Reference

This document incorporates by reference FAA Order 7400.11C, airspace Designations and Reporting Points, dated August 8, 2017, and effective September 15, 2018, in section 71.1. FAA Order 7400.11C is publicly available as listed in the ADDRESSES section of this final rule. FAA Order 7400.11C lists Class A, B, C, D, and E airspace areas, air traffic service routes, and reporting points.

The Rule

This action amends Title 14 Code of Federal Regulations (14 CFR) part 71 to reflect the approval by the Director of the Federal Register of the incorporation by reference of FAA Order 7400.11C, effective September 15, 2018, through September 15, 2019. During the incorporation by reference period, the FAA will continue to process all proposed changes of the airspace listings in FAA Order 7400.11C in full text as proposed rule documents in the Federal Register. Likewise, all amendments of these listings will be published in full text as final rules in the Federal Register. The FAA will periodically integrate all final rule amendments into a revised edition of the Order, and submit the revised edition to the Director of the Federal Register for approval for incorporation by reference in section 71.1.

Regulatory Notices and Analyses

The FAA has determined that this action: (1) Is not a “significant regulatory action” under Executive Order 12866; (2) is not a “significant rule” under DOT Regulatory Policies and Procedures (44 FR 11034; February 26, 1979); and (3) does not warrant preparation of a regulatory evaluation as the anticipated impact is so minimal. This action neither places any new restrictions or requirements on the public, nor changes the dimensions or operation requirements of the airspace listings incorporated by reference in part 71.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

2. Section 71.1 is revised to read as follows:

§ 71.1 Applicability.

A listing for Class A, B, C, D, and E airspace areas; air traffic service routes; and reporting points can be found in FAA Order 7400.11C, Airspace Designations and Reporting Points, dated August 8, 2018. This incorporation by reference was approved by the Director of the Federal Register in accordance with 5 U.S.C. 552(a) and 1 CFR part 51. The approval to incorporate by reference FAA Order 7400.11C is effective September 15, 2018, through September 15, 2019. During the incorporation by reference period, proposed changes to the listings of Class A, B, C, D, and E airspace areas; air traffic service routes; and reporting points will be published in full text as proposed rule documents in the Federal Register. Amendments to the listings of Class A, B, C, D, and E airspace areas; air traffic service routes; and reporting points will be published in full text as final rules in the Federal Register. Periodically, the final rule amendments will be integrated into a revised edition of the Order and submitted to the Director of the Federal Register for approval for incorporation by reference in this section. Copies of FAA Order 7400.11C may be obtained from Airspace Policy Group, Federal Aviation Administration, 800 Independence Avenue SW, Washington, DC 20591, (202) 267-8783. An electronic version of the Order is available on the FAA website at http://www.faa.gov/air_traffic/publications. Copies of FAA Order 7400.11C may be inspected in Docket No. FAA-2018-0770; Amendment No. 71-50, on http://www.regulations.gov. A copy of FAA Order 7400.11C may be inspected at the National Archives and Records Administration (NARA). For information on the availability of this material at NARA, call (202) 741-6030, or go to: http://www.archives.gov/federal-register/cfr/ibr-locations.html.

§ 71.5 [Amended]

3. Section 71.5 is amended by removing the words “FAA Order 7400.11B” and adding, in their place, the words “FAA Order 7400.11C.”

§ 71.15 [Amended]

4. Section 71.15 is amended by removing the words “FAA Order 7400.11B” and adding, in their place, the words “FAA Order 7400.11C.”

§ 71.31 [Amended]

5. Section 71.31 is amended by removing the words “FAA Order 7400.11B” and adding, in their place, the words “FAA Order 7400.11C.”

§ 71.33 [Amended]

6. Paragraph (c) of section 71.33 is amended by removing the words “FAA Order 7400.11B” and adding, in their place, the words “FAA Order 7400.11C.”

§ 71.41 [Amended]

7. Section 71.41 is amended by removing the words “FAA Order 7400.11B” and adding, in their place, the words “FAA Order 7400.11C.”

§ 71.51 [Amended]

8. Section 71.51 is amended by removing the words “FAA Order 7400.11B” and adding, in their place, the words “FAA Order 7400.11C.”

§ 71.61 [Amended]

9. Section 71.61 is amended by removing the words “FAA Order 7400.11B” and adding, in their place, the words “FAA Order 7400.11C.”

§ 71.71 [Amended]

10. Paragraphs (b), (c), (d), (e), and (f) of section 71.71 are amended by removing the words “FAA Order 7400.11B” and adding, in their place, the words “FAA Order 7400.11C.”

§ 71.901 [Amended]

11. Paragraph (a) of section 71.901 is amended by removing the words “FAA Order 7400.11B” and adding, in their place, the words “FAA Order 7400.11C.”

Issued in Washington, DC, on August 21, 2018.
Rodger A Dean Jr.,
Manager, Airspace Policy Group.

[FR Doc. 2018-18507 Filed 8-27-18; 8:45 am]

BILLING CODE 4910-13-P